DEPARTMENT OF TRANSPORTATION

Federal Aviation Administration

14 CFR Part 39

[Docket No. 99-NM-381-AD; Amendment 39-12009; AD 2000-24-02]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A319, A320, and A321 series airplanes, that currently requires repetitive inspections to detect wear of the inboard flap trunnions, and to detect wear or debonding of the protective half-shells; and corrective actions, if necessary. This amendment requires accomplishment of the previously optional terminating action. This amendment is prompted by issuance of mandatory continuing airworthiness information by a foreign civil airworthiness authority. The actions specified by this AD are intended to prevent chafing and resultant wear damage on the inboard flap drive trunnions or on the protective half-shells, which could result in failure of the trunnion primary load path; this would adversely affect the fatigue life of the secondary load path and could lead to loss of the flap.

DATES: Effective January 8, 2001.

The incorporation by reference of certain publications, as listed in the regulations, is approved by the Director of the Federal Register as of January 8, 2001.

The incorporation by reference of certain other publications, as listed in the regulations, was approved previously by the Director of the Federal Register as of September 27, 1999 (64 FR 45868, August 23, 1999).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 99-17-11, amendment 39-11259 (64 FR 45868, August 23, 1999), which is applicable to certain Airbus Model A319, A320, and A321 series airplanes, was published in the Federal Register on September 20, 2000 (65 FR 56814). The action proposed to continue to require repetitive inspections to detect wear of the inboard flap trunnions, and to detect wear or debonding of the protective half-shells; and corrective actions, if necessary. The action also proposed to require accomplishment of the previously optional terminating action.

Comments

Interested persons have been afforded an opportunity to participate in the making of this amendment. No comments were submitted in response to the proposal or the FAA's determination of the cost to the public.

Conclusion

The FAA has determined that air safety and the public interest require the adoption of the rule as proposed.

Cost Impact

There are approximately 132 airplanes of U.S. registry that will be affected by this AD.

The actions that are currently required by AD 99-17-11, and retained in this AD, take approximately 1 work hour per airplane to accomplish, at an average labor rate of $60 per work hour. Based on these figures, the cost impact of the currently required actions on U.S. operators is approximately $7,920, or $60 per airplane, per inspection cycle.

The new actions that are required in this AD will take approximately 14 work hours per airplane to accomplish, at an average labor rate of $60 per work hour. Required parts will be provided by the manufacturer at no cost to the operators. Based on these figures, the cost impact of the new requirements of this AD on U.S. operators is estimated to be $110,880, or $840 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11259 (64 FR 45868, August 23, 1999), and by adding a new airworthiness directive (AD), amendment 39-12009, to read as follows:

2000-24-02 Airbus Industrie: Amendment 39-12009. Docket 99-NM-381-AD. Supersedes AD 99-17-11, Amendment 39-11259.

Applicability: Model A319, A320, and A321 series airplanes; certificated in any category; except airplanes on which Airbus Modification 26495 (reference Airbus Service Bulletin A320-27-1117) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To prevent chafing and resultant wear damage on the inboard flap drive trunnions or on the protective half-shells, which could result in failure of the trunnion primary load path, adversely affect the fatigue life of the secondary load path, and lead to loss of the flap, accomplish the following:

Restatement of Certain Requirements of AD 99-17-11

Inspections

(a) For airplanes on which a protective half-shell has been installed over area 1 of the left or right inboard flap trunnion: Perform a detailed visual inspection of the protective half-shell (area 1) to detect wear or debonding, and perform a detailed visual inspection of the trunnion (area 2) to detect wear at the time specified in paragraph (a)(1), (a)(2), or (a)(3) of this AD, as applicable; in accordance with Airbus Service Bulletin A320-27-1108, Revision 01, dated July 15, 1997, Revision 02, dated April 17, 1998, or Revision 03, dated June 25, 1999.

(1) For Model A319 and Model A320 series airplanes on which Airbus Modification 22841 has been installed: Inspect prior to the accumulation of 2,500 flight hours after the incorporation of the modification, or within 500 flight hours after September 27, 1999 (the effective date of AD 99-17-11, amendment 39-11259), whichever occurs later.

(2) For Model A321 series airplanes on which Airbus Modification 23926 has been installed, or on which the repair specified in Airbus Service Bulletin A320-27-1097, dated October 5, 1996, or Revision 01, dated July 15, 1997, has been accomplished; and for Model A320 series airplanes on which the repair specified in Airbus Service Bulletin A320-27-1066, Revision 3, dated October 30, 1996, or Revision 4, dated July 15, 1997, has been accomplished: Inspect prior to the accumulation of 5,000 flight hours after incorporation of the repair or modification, or within 500 flight hours after September 27, 1999, whichever occurs later.

(3) For Airbus Model A320 series airplanes on which Airbus Modification 22881 (Airbus Service Bulletin A320-27-1050) has been accomplished, and on which Airbus Modification 22841 has not been accomplished: Inspect within 500 flight hours after the effective date of this new AD.

Note 2: Paragraph (a)(3) of AD 99-17-11 has been revised to correct the description of airplanes affected by that paragraph. Since such a revision could result in additional airplanes being affected, the compliance time has been restarted from the effective date of this AD to allow additional time to accomplish the actions required by that paragraph.

(b) For airplanes on which no protective half-shell is installed over area 1 of the left or right inboard flap trunnion: Within 500 flight hours after September 27, 1999, perform a detailed visual inspection of areas 1 and 2 of the inboard flap trunnion to detect wear on the trunnion, in accordance with Airbus Service Bulletin A320-27-1066, Revision 4, dated July 15, 1997 (for Model A320 series airplanes); or A320-27-1097, Revision 01, dated July 15, 1997, or Revision 02, dated June 25, 1999 (for Model A321 series airplanes).

Corrective Actions

(c) Except as provided by paragraph (d) of this AD: Following the accomplishment of any inspection required by either paragraph (a) or (b) of this AD, perform the follow-on repetitive inspections and/or corrective actions, as applicable, in accordance with Airbus Service Bulletin A320-27-1066, Revision 4, dated July 15, 1997 (for Model A320 series airplanes); A320-27-1097, Revision 01, dated July 15, 1997, or Revision 02, dated June 25, 1999 (for Model A321 series airplanes); or A320-27-1108, Revision 01, dated July 15, 1997, Revision 02, dated April 17, 1998, or Revision 03, dated June 25, 1999 (for Model A319, A320, and A321 series airplanes); as applicable; at the compliance times specified in the applicable service bulletin.

(d) If the applicable service bulletin specifies to contact Airbus for an appropriate action, prior to further flight, repair in accordance with a method approved by either the Manager, International Branch, ANM-116, FAA, Transport Airplane Directorate, or the Direction Generale de l'Aviation Civile (or its delegated agent).

New Requirements of this AD

Service Bulletin Revisions

(e) As of the effective date of this new AD, the following service bulletin revisions must be used for accomplishment of the applicable actions required by paragraphs (a), (b), and (c) of this AD:

(1) Airbus Service Bulletin A320-27-1108, Revision 04, dated November 22, 1999.

(2) Airbus Service Bulletin A320-27-1066, Revision 5, dated June 25, 1999.

Terminating Modification

(f) Within 18 months after the effective date of this AD, modify the sliding panel driving mechanism of the flap drive trunnions, in accordance with Airbus Service Bulletin A320-27-1117, Revision 02, dated January 18, 2000. This modification constitutes terminating action for the repetitive inspections required by this AD.

Note 3: Accomplishment of the modification required by paragraph (f) of this AD prior to the effective date of this AD in accordance with Airbus Service Bulletin A320-27-1117, dated July 31, 1997, or Revision 01, dated June 25, 1999, is acceptable for compliance with that paragraph.

Alternative Methods of Compliance

(g)(1) An alternative method of compliance or adjustment of the compliance time that provides an acceptable level of safety may be used if approved by the Manager, International Branch, ANM-116. Operators shall submit requests through an appropriate FAA Principal Maintenance Inspector, who may add comments and then send it to the Manager, International Branch, ANM-116.

(2) Alternative methods of compliance, approved previously in accordance with AD 99-17-11, amendment 39-11259, are approved as alternative methods of compliance with this AD.

Note 4: Information concerning the existence of approved alternative methods of compliance with this AD, if any, may be obtained from the International Branch, ANM-116.

Special Flight Permits

(h) Special flight permits may be issued in accordance with sections 21.197 and 21.199 of the Federal Aviation Regulations (14 CFR 21.197 and 21.199) to operate the airplane to a location where the requirements of this AD can be accomplished.

Incorporation by Reference

(i) Except as required by paragraph (d) of this AD, the actions shall be done in accordance with Airbus Service Bulletin A320-27-1108, Revision 01, dated July 15, 1997; Airbus Service Bulletin A320-27-1108, Revision 02, dated April 17, 1998; Airbus Service Bulletin A320-27-1108; Revision 03, dated June 25, 1999; Airbus Service Bulletin A320-27-1066, Revision 4, dated July 15, 1997; Airbus Service Bulletin A320-27-1097, Revision 01, dated July 15, 1997; Airbus Service Bulletin A320-27-1097, Revision 02, dated June 25, 1999; Airbus Service Bulletin A320-27-1108, Revision 04, dated November 22, 1999; Airbus Service Bulletin A320-27-1066, Revision 5, dated June 25, 1999; and Airbus Service Bulletin A320-27-1117, Revision 02, dated January 18, 2000; as applicable.

(1) The incorporation by reference of Airbus Service Bulletin A320-27-1108, Revision 04, dated November 22, 1999; Airbus Service Bulletin A320-27-1066, Revision 5, dated June 25, 1999; and Airbus Service Bulletin A320-27-1117, Revision 02, dated January 18, 2000, is approved by the Director of the Federal Register in accordance with 5 U.S.C. 552(a) and 1 CFR part 51.

(2) The incorporation by reference of Airbus Service Bulletin A320-27-1108, Revision 01, dated July 15, 1997; Airbus Service Bulletin A320-27-1108, Revision 02, dated April 17, 1998; Airbus Service Bulletin A320-27-1108; Revision 03, dated June 25, 1999; Airbus Service Bulletin A320-27-1066, Revision 4, dated July 15, 1997; Airbus Service Bulletin A320-27-1097, Revision 01, dated July 15, 1997; and Airbus Service Bulletin A320-27-1097, Revision 02, dated June 25, 1999, was approved previously by the Director of the Federal Register as of September 27, 1999 (64 FR 45868, August 23, 1999).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1996-271-092(B) R3, dated August 11, 1999.

Effective Date

(j) This amendment becomes effective on January 8, 2001.

Issued in Renton, Washington, on November 20, 2000.
Donald L. Riggin,
Acting Manager, Transport Airplane Directorate, Aircraft Certification Service.

[FR Doc. 00-30119 Filed 12-1-00; 8:45 am]

BILLING CODE 4910-13-P